DEPARTMENT OF HEALTH AND HUMAN SERVICES

Food and Drug Administration

[Docket No. 02F-0142]

Cyanotech Corp.; Withdrawal of Food Additive Petition

AGENCY: Food and Drug Administration, HHS.

ACTION: Notice.

SUMMARY: The Food and Drug Administration (FDA) is announcing the withdrawal, without prejudice to a future filing, of a food additive petition (FAP 2A4732) proposing that the food additive regulations be amended to provide for the safe use of Haematococcus algae astaxanthin as a nutrient supplement.

FOR FURTHER INFORMATION CONTACT: James C. Wallwork, Center for Food Safety and Applied Nutrition (HFS-265), Food and Drug Administration, 5100 Paint Branch Pkwy., College Park, MD 20740, 202-418-3078.

SUPPLEMENTARY INFORMATION: In a notice published in the Federal Register of April 11, 2002 (67 FR 17700), FDA announced that a food additive petition (FAP 2A4732) had been filed by Cyanotech Corp., c/o T. Todd Lorenz, 11034 West Ocean Air Dr., # 252, San Diego, CA 92130 (currently 73-4460 Queen Kaahumanu Hwy., # 102, Kailua-Kona, HI 96740). The petition proposed to amend the food additive regulations in Part 172 Food Additives Permitted for Direct Addition to Food for Human Consumption (21 CFR part 172) to provide for the safe use of Haematococcus algae astaxanthin as a nutrient supplement. Cyanotech Corp. has now withdrawn the petition without prejudice to a future filing (21 CFR 171.7(a)).

Dated: June 3, 2002.
Laura M. Tarantino,
Deputy Director, Office of Food Additive Safety, Center for Food Safety and Applied Nutrition.

[FR Doc. 02-16162 Filed 6-26-02; 8:45 am]

BILLING CODE 4160-01-S